DEPARTMENT OF JUSTICE

Bureau of Alcohol, Tobacco, Firearms and Explosives

[OMB Number 1140-0028]

Agency Information Collection Activities; Proposed eCollection eComments Requested; Inventories, Licensed Explosives Importers, Manufacturers, Dealers, and Permittees

AGENCY: Bureau of Alcohol, Tobacco, Firearms and Explosives, Department of Justice.

ACTION: 30-Day notice.

SUMMARY: The Department of Justice (DOJ), Bureau of Alcohol, Tobacco, Firearms and Explosives (ATF), will submit the following information collection request to the Office of Management and Budget (OMB) for review and approval in accordance with the Paperwork Reduction Act of 1995. The proposed information collection was previously published in the Federal Register 82 FR 11650, on February 24, 2017, allowing for a 60-day comment period. This information collection is being revised due to a burden reduction, specifically a decrease in both the number of respondents and the total burden hours for this collection.

DATES: Comments are encouraged and will be accepted for an additional 30 days until May 26, 2017.

FOR FURTHER INFORMATION CONTACT: If you have additional comments, particularly with respect to the estimated public burden or associated response time, have suggestions, need a copy of the proposed information collection instrument with instructions, or desire any other additional information, please contact please contact Anita Scheddel, Program Analyst, Explosives Industry Programs Branch, either by mail 99 New York Ave. NE., Washington, DC 20226, by email at Anita.Scheddel@atf.gov. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Revision of a currently approved collection.

(2) The Title of the Form/Collection: Inventories, Licensed Explosives Importers, Manufacturers, Dealers, and Permittees.

(3) The agency form number, if any, and the applicable component of the Department sponsoring the collection:

Form number: None.

Component: Bureau of Alcohol, Tobacco, Firearms and Explosives, U.S. Department of Justice.

(4) Affected public who will be asked or required to respond, as well as a brief abstract:

Primary: Business or other for-profit.

Other: None.

Abstract: The records show the explosive material inventories of those persons engaged in various activities within the explosive industry and are used by the government as initial figures from which an audit trail can be developed during the course of a compliance inspection or criminal investigation.

(5) An estimate of the total number of respondents and the amount of time estimated for an average respondent to respond: An estimated 9,916 respondents will respond twice to provide inventory for this collection, and it will take each respondent approximately 1 hour to complete each inventory.

(6) An estimate of the total public burden (in hours) associated with the collection: The estimated annual public burden associated with this collection is 19,832 hours, which is equal to (9,916 * 2 (# of responses) * 1 (hour to provide each inventory).

(7) An explanation of the change in estimates: The adjustments associated with this collection are a decrease in the number of respondents by 550, and a decrease in the total burden hours by 1,100 from the previous collection renewal.

If additional information is required contact: Melody Braswell, Department Clearance Officer, United States Department of Justice, Justice Management Division, Policy and Planning Staff, Two Constitution Square, 145 N Street NE., 3E.405A, Washington, DC 20530.

Dated: April 21, 2017.
Melody Braswell,
Department Clearance Officer for PRA, U.S. Department of Justice.

[FR Doc. 2017-08398 Filed 4-25-17; 8:45 am]

BILLING CODE 4410-14-P